Proclamation 10549 of March 31, 2023

World Autism Awareness Day, 2023

By the President of the United States of America

A Proclamation

There is no one way to be autistic—each individual with autism experiences it differently—but together, autistic people make industries, communities, and our Nation stronger. Today, we celebrate the achievements of neurodiverse people everywhere and champion the equal rights and dignity of all those living on the autism spectrum.

Here in the United States, more than 5.4 million adults are autistic, and 1 in every 44 children has been diagnosed with autism. Yet this developmental disability is still misunderstood. Autistic people continue to face obstacles when seeking employment, health care, education, and housing, and the immense contributions of people with autism are often overlooked. We owe it to our fellow Americans to address the disparities they face and to support autistic people with tools that facilitate clearer communication, increased productivity, and greater independence.

That is why my Administration is funding cutting-edge research to enable earlier autism diagnoses and to develop more resources to help neurodiverse people of all ages thrive. Recognizing that Autism Spectrum Disorder is categorized as a disability, my American Rescue Plan provided $25 billion to States to make it easier for people with disabilities, including autism, to receive care at home. We also rolled out new tools and strategies for partner organizations to connect disabled Americans with stable housing while helping them pay rent, fight eviction, and prevent homelessness.

Last year, I was proud to reauthorize Kevin and Avonte's Law, which expands training for first responders and others giving care to people with autism. And in my recent State of the Union Address, I called on the Congress to increase its support for community living for people with disabilities.

My Administration is also boosting employment opportunities for autistic and other historically marginalized Americans. I was proud to sign an Executive Order advancing diversity, equity, inclusion, and accessibility in the Federal workforce, which will help create new jobs for Americans with autism and make space for their voices in the policy-making process.

We are helping State and local governments, employers, and nonprofits tap Federal funds to hire more Americans with disabilities like autism through competitive integrated employment practices. We are cracking down on employers who discriminate on the basis of disability, and we are fighting to end the unfair use of sub-minimum wages. I continue to urge States that have not yet expanded Medicaid coverage under the Affordable Care Act to do the right thing and provide health insurance to those currently locked out of Medicaid support that would otherwise be available to them from the Federal Government. Medicaid expansion would help many Americans with disabilities, including those with autism.

To support students with autism, the Department of Education is ensuring that public schools uphold their obligation to provide free and appropriate public education in the least restrictive environment to all students. My Administration has also issued new guidance to help schools avoid the discriminatory use of discipline, which too often impacts autistic students, whose needs and behaviors are commonly misunderstood.

As we build a more inclusive, just, and equal Nation, we aim to lead by the power of our example. I reestablished the role of Special Advisor on International Disability Rights at the Department of State to prioritize disability rights in our policy discussions with foreign nations. The United States Agency for International Development is advancing disability inclusion as part of its democracy, climate, humanitarian, and peacebuilding activities. And as co-chair of the Global Action on Disability Network and a participant in the Global Disability Summit, the United States continues to promote the equal human rights of people with disabilities worldwide.

America is founded on the idea that all people are created equal and deserve to be treated equally throughout their lives. Today and always, let us strive to live up to this ideal. Let us embrace our diversity; empower each other to reach our full potential; and promote the basic decency, acceptance, and fairness we know is right.

NOW, THEREFORE, I, JOSEPH R. BIDEN JR., President of the United States of America, by virtue of the authority vested in me by the Constitution and the laws of the United States, do hereby proclaim April 2, 2023, as World Autism Awareness Day. I call upon all Americans to learn more about autism to improve early diagnosis, to learn more about the experiences of autistic people from autistic people, and to build more welcoming and inclusive communities to support people with autism.

IN WITNESS WHEREOF, I have hereunto set my hand this thirty-first day of March, in the year of our Lord two thousand twenty-three, and of the Independence of the United States of America the two hundred and forty-seventh.

[FR Doc. 2023-07318

Filed 4-4-23; 11:15 am]

Billing code 3395-F3-P